DEPARTMENT OF THE INTERIOR

National Park Service

[NPS-WASO-NAGPRA-20964; PPWOCRADN0-PCU00RP14.R50000]

Notice of Inventory Completion: University of California, Davis, Davis, CA

AGENCY: National Park Service, Interior.

ACTION: Notice.

SUMMARY: The University of California, Davis (UC Davis) has completed an inventory of human remains housed in the UC Davis Museum of Wildlife and Fish Biology, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the UC Davis. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the University of California, Davis at the address in this notice by June 10, 2016.

ADDRESSES: Megon Noble, NAGPRA Project Manager, University of California, Davis, 433 Mrak Hall, One Shields Avenue, Davis, CA 95616, telephone (530) 752-8501, email mnoble@ucdavis.edu.

SUPPLEMENTARY INFORMATION: Notice is here given in accordance with the Native American Graves Protection and Repatriation Act (NAGPRA), 25 U.S.C. 3003, of the completion of an inventory of human remains under the control of the University of California, Davis, Davis, CA. The human remains were removed from Barrow, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by UC, Davis professional staff in consultation with representatives of the Native Village of Barrow Inupiat Traditional Government.

History and Description of the Remains

In 1951, human remains representing, at minimum, one individual were removed from Point Barrow in Barrow, AK. The human remains were collected by Henry Everett Childs, Jr., a graduate student at University of California, Berkeley at the time. In 2014, the human remains were identified in the collections of the UC Davis, Museum of Wildlife and Fish Biology and reported to the NAGPRA Project. No known individuals were identified. No associated funerary objects were present.

The human remains were collected during a biological field expedition. The human remains have been determined to be Native American based on antiquity, dental wear patterns, and historical and archeological information. Geographic, historical, archeological, and biological information suggest continuity between human remains from Point Barrow and contemporary Inupiat people that are present day members of the Native Village of Barrow Inupiat Traditional Government.

The human remains described above lack precise context information. However, there are several known archeological sites in the Point Barrow area including Nuvuk (Nuwuk), Birnirk, Kugok, Utqiaġvik, and Walakpa that have been extensively excavated, and provide related information to assist with interpretation. Collectively the sites in the Point Barrow area represent Birnirk, Thule, Historical and Modern Inupiat archeological phases. Radiocarbon dates indicate an essentially continuous occupation of the Nuvuk site. Based on the state of preservation, the human remains described above date to the last 1000 years, but likely date to the late Prehistoric-early Historic period (1730s 1850s B.C.).

The historic village of Nuvuk was occupied at the time of Euroamerican contact (1826) and later abandoned. Some elders now living in Barrow were born and raised at Nuvuk. Recent ancient mitochondrial DNA analysis suggests some genetic continuity between Paleoeskimo (e.g., Arctic Small Tool tradition) and contemporary Inupiat people of the region. However, the Inupiat in the North Slope of Alaska have demonstrated cultural and genetic ties to their ancestral Thule and Birnirk cultures. Based on this information, the human remains described in this Notice are determined to be culturally affiliated with Inupiat of the Point Barrow area, represented today by the Native Village of Barrow Inupiat Traditional Government.

Determinations Made by the University of California, Davis

Officials at UC Davis have determined that:

• Pursuant to 25 U.S.C. 3001(9), the human remains described in this notice represent the physical remains of one individual of Native American ancestry.

• Pursuant to 25 U.S.C. 3001(2), there is a relationship of shared group identity that can be reasonably traced between the Native American human remains and the Native Village of Barrow Inupiat Traditional Government.

Additional Requestors and Disposition

Lineal descendants or representatives of any Indian tribe or Native Hawaiian organization not identified in this notice that wish to request transfer of control of these human remains should submit a written request with information in support of the request to Megon Noble, NAGPRA Project Manager, University of California, Davis, 433 Mrak Hall, One Shields Avenue, Davis, CA 95616, telephone (530)752-8501, email mnoble@ucdavis.edu, by June 10, 2016. After that date, if no additional requestors have come forward, transfer of control of the human remains to Native Village of Barrow Inupiat Traditional Government may proceed.

UC Davis is responsible for notifying the Native Village of Barrow Inupiat Traditional Government that this notice has been published.

Dated: April 27, 2016.
Melanie O'Brien,
Manager, National NAGPRA Program.

[FR Doc. 2016-11093 Filed 5-10-16; 8:45 am]

BILLING CODE 4312-50-P